DEPARTMENT OF ENERGY

Federal Energy Regulatory Commission

[Project No. 6550-003]

Frank M. Biber and Steven Spellenberg; Bidden Creek Bores Properties, LLC; Notice of Transfer of Exemption

1. By letter filed May 11, 2015, Steven Spellenberg informed the Commission that the exemption from licensing for the Biber-Spellenberg Hydro Project, FERC No. 6550, originally issued February 14, 1983,¹ has been transferred to Bidden Creek Bores Properties, LLC. The project is located on the Bidden Creek, Trinity County, California. The transfer of an exemption does not require Commission approval.

¹ 22 FERC ¶ 62,182, Order Granting Exemption From Licensing of a Small Hydroelectric Project of 5 MW or Less (1983).

2. Bidden Creek Bores Properties, LLC is now the exemptee of the Biber-Spellenberg Hydro Project, FERC No. 6550. All correspondence should be forwarded to: Mr. Stephen Bores, 3460 Country Club Pl., Danville, CA 94506-5827.

Dated: May 20, 2015.
Kimberly D. Bose,
Secretary.

[FR Doc. 2015-12711 Filed 5-26-15; 8:45 am]

BILLING CODE 6717-01-P